NUCLEAR REGULATORY COMMISSION

Advisory Committee on Reactor Safeguards Joint Meeting of the Subcommittees on Human Factors and Safety Research Program; Postponed

The joint meeting of the ACRS Subcommittees on Human Factors and Safety Research Program scheduled to be held on November 15, 2001, in Room T-2B3, 11545 Rockville Pike, Rockville, Maryland has been postponed at the request of the NRC staff. Notice of this meeting was published in the Federal Register on Friday, November 2, 2001 (66 FR 55710). Rescheduling of this meeting will be announced in a future Federal Register Notice.

For further information contact: Mr. Michael T. Markley, cognizant ACRS staff engineer (telephone 301/415-6885) between 7:30 a.m. and 4:15 p.m. (EST) or by e-mail: MTM@NRC.gov.

Dated: November 5, 200l.
Sher Bahadur,
Associate Director for Technical Support, ACRS/ACNW.

[FR Doc. 01-28181 Filed 11-8-01; 8:45 am]

BILLING CODE 7590-01-P